DEPARTMENT OF HOMELAND SECURITY

Federal Emergency Management Agency

[Docket ID FEMA-2015-0001]

Changes in Flood Hazard Determinations

AGENCY: Federal Emergency Management Agency, DHS.

ACTION: Final Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: April 23, 2015.
Roy E. Wright,
Deputy Associate Administrator for Mitigation, Department of Homeland Security, Federal Emergency Management Agency.

State and county | Location and case No. | Chief executive officer of community | Community map repository | Effective date of modification | Community No.
Alabama:
Baldwin (FEMA Docket No.: B-1460). | City of Gulf Shores (14-04-6192P). | The Honorable Robert Craft, Mayor, City of Gulf Shores, P.O. Box 299, Gulf Shores, AL 36547. | Community Development Department, 1905 West 1st Street, Gulf Shores, AL 36547. | February 23, 2015 | 015005
Jefferson (FEMA Docket No.: B-1464). | City of Hoover (14-04-5307P). | The Honorable Gary Ivey, Mayor, City of Hoover, 100 Municipal Drive, Hoover, AL 35216. | Building Inspections Department, 2020 Valleydale Road, Hoover, AL 35244. | March 9, 2015 | 010123
Jefferson (FEMA Docket No.: B-1464). | Unincorporated areas of Jefferson County (14-04-5307P). | The Honorable David Carrington, Chairman, Jefferson County Board of Commissioners, 716 Richard Arrington Jr. Boulevard North, Birmingham, AL 35203. | Jefferson County Courthouse, Land Development Office, 716 Richard Arrington Jr. Boulevard North, Birmingham, AL 35203. | March 9, 2015 | 010127
Arizona:
Maricopa (FEMA Docket No.: B-1460). | City of El Mirage (14-09-2966P). | The Honorable Lana Mook, Mayor, City of El Mirage, 12145 Northwest Grand Avenue, El Mirage, AZ 85335. | City Hall, 14405 North Palm Street, El Mirage, AZ 85335. | February 27, 2015 | 040041
Maricopa (FEMA Docket No.: B-1464). | City of Phoenix (14-09-3895P). | The Honorable Greg Stanton, Mayor, City of Phoenix, 200 West Washington Street, 11th Floor, Phoenix, AZ 85003. | Street Transportation Department, 200 West Washington Street, 5th Floor, Phoenix, AZ 85003. | March 9, 2015 | 040051
Maricopa (FEMA Docket No.: B-1460). | Unincorporated areas of Maricopa County (14-09-2190P). | The Honorable Denny Barney, Chairman, Maricopa County Board of Commissioners, 301 West Jefferson, 10th Floor, Phoenix, AZ 85003. | Maricopa County Flood Control District, 2801 West Durango Street, Phoenix, AZ 85009. | February 27, 2015 | 040037
Maricopa (FEMA Docket No.: B-1460). | Unincorporated areas of Maricopa County (14-09-2966P). | The Honorable Denny Barney, Chairman, Maricopa County Board of Commissioners, 301 West Jefferson, 10th Floor, Phoenix, AZ 85003. | Maricopa County Flood Control District, 2801 West Durango Street, Phoenix, AZ 85009. | February 27, 2015 | 040037
Pima (FEMA Docket No.: B-1454). | Unincorporated areas of Pima County (14-09-3325P). | The Honorable Sharon Bronson, Chair, Pima County Board of Supervisors, 130 West Congress Street, 11th Floor, Tucson, AZ 85701. | Pima County Flood Control District, 97 East Congress Street, 3rd Floor, Tucson, AZ 85701. | February 26, 2015 | 040073
Yavapai (FEMA Docket No.: B-1464). | City of Cottonwood (13-09-1967P). | The Honorable Diane Joens, Mayor, City of Cottonwood, 827 North Main Street, Cottonwood, AZ 86326. | City Administrator's Office, 827 North Main Street, Cottonwood, AZ 86326. | February 9, 2015 | 040096
Yavapai (FEMA Docket No.: B-1464). | Unincorporated areas of Yavapai County (13-09-1967P). | The Honorable Rowle P. Simmons, Chairman, Yavapai County Board of Supervisors, 1015 Fair Street, Prescott, AZ 86305. | Yavapai County Flood Control District, 1120 Commerce Drive, Prescott, AZ 86305. | February 9, 2015 | 040093
California:
Los Angeles (FEMA Docket No.: B-1460). | Unincorporated areas of Los Angeles County (14-09-4094P). | The Honorable Don Knabe, Chairman, Los Angeles County Board of Supervisors, 500 West Temple Street, Los Angeles, CA 90012. | Los Angeles County Department of Public Works, 900 South Fremont Avenue, Alhambra, CA 91803. | March 2, 2015 | 065043
Merced (FEMA Docket No.: B-1464). | City of Merced (14-09-3465P). | The Honorable Stanley P. Thurston, Mayor, City of Merced, 678 West 18th Street, Merced, CA 95340. | City Hall, 678 West 18th Street, Merced, CA 95340. | March 5, 2015 | 060191
Riverside (FEMA Docket No.: B-1464). | City of Eastvale (14-09-2404P). | The Honorable Ike Bootsma, Mayor, City of Eastvale, 12363 Limonite Avenue, Suite 910, Eastvale, CA 91752. | City Hall, 12363 Limonite Avenue, Suite 910, Eastvale, CA 91752. | March 9, 2015 | 060155
Riverside (FEMA Docket No.: B-1464). | City of Norco (14-09-2404P). | The Honorable Berwin Hanna, Mayor, City of Norco, 2870 Clark Avenue, Norco, CA 92860. | City Hall, 2870 Clark Avenue, Norco, CA 92860. | March 9, 2015 | 060256
Santa Clara (FEMA Docket No.: B-1460). | City of Morgan Hill (14-09-3877P). | The Honorable Steve Tate, Mayor, City of Morgan Hill, 17575 Peak Avenue, Morgan Hill, CA 95037. | Public Works Department, Engineering Division, 17575 Peak Avenue, Morgan Hill, CA 95037. | March 2, 2015 | 060346
Florida:
Bay (FEMA Docket No.: B-1460). | Unincorporated areas of Bay County (14-04-8612P). | The Honorable Guy M. Tunnell, Chairman, Bay County Board of Commissioners, 808 West 11th Street, Panama City, FL 32401. | Bay County Planning and Zoning Department, 808 West 11th Street, Panama City, FL 32401. | March 9, 2015 | 120004
Duval (FEMA Docket No.: B-1460). | City of Jacksonville (14-04-6432P). | The Honorable Alvin Brown, Mayor, City of Jacksonville, 117 West Duval Street, Suite 400, Jacksonville, FL 32202. | Development Services Department, 214 Hogan Street North, Suite 2100, Jacksonville, FL 32202. | March 2, 2015 | 120077
Hillsborough (FEMA Docket No.: B-1454). | Unincorporated areas of Hillsborough County (13-04-1630P). | The Honorable Mark Sharpe, Chairman, Hillsborough County Board of Commissioners, 601 East Kennedy Boulevard, Tampa, FL 33602. | Hillsborough County Public Works Department, 601 East Kennedy Boulevard, Tampa, FL 33602. | February 23, 2015 | 120112
Monroe (FEMA Docket No.: B-1460). | City of Key West (14-04-7227P). | The Honorable Craig Cates, Mayor, City of Key West, 3126 Flagler Avenue, Key West, FL 33040. | Planning Department, 3140 Flagler Avenue, Key West, FL 33040. | February 26, 2015 | 120168
Orange (FEMA Docket No.: B-1460). | City of Orlando (14-04-5319P). | The Honorable Buddy Dyer, Mayor, City of Orlando, P.O. Box 4990, Orlando, FL 32802. | Permitting Services Division, 400 South Orange Avenue, Orlando, FL 32801. | March 6, 2015 | 120186
Orange (FEMA Docket No.: B-1460). | Unincorporated areas of Orange County (14-04-4367P). | The Honorable Teresa Jacobs, Mayor, Orange County, 201 South Rosalind Avenue, 5th Floor, Orlando, FL 32801. | Orange County Stormwater Management Department, 4200 South John Young Parkway, Orlando, FL 32839. | March 6, 2015 | 120179
Orange (FEMA Docket No.: B-1460). | Unincorporated areas of Orange County (14-04-5319P). | The Honorable Teresa Jacobs, Mayor, Orange County, 201 South Rosalind Avenue, 5th Floor, Orlando, FL 32801. | Orange County Stormwater Management Department, 4200 South John Young Parkway, Orlando, FL 32839. | March 6, 2015 | 120179
Sarasota (FEMA Docket No.: B-1435). | City of Sarasota (14-04-5443P). | The Honorable Willie Charles Shaw, Mayor, City of Sarasota, 1565 1st Street, Sarasota, FL 34236. | City Hall, 1565 1st Street, Sarasota, FL 34236. | Nov. 13, 2014 | 125150
Georgia:
Columbia (FEMA Docket No.: B-1460). | City of Grovetown (14-04-4634P). | The Honorable George W. James, III, Mayor, City of Grovetown, 103 Old Wrightsboro Road, Grovetown, GA 30813. | Water Department, 103 Old Wrightsboro Road, Grovetown, GA 30813. | March 2, 2015 | 130265
Columbia (FEMA Docket No.: B-1460). | Unincorporated areas of Columbia County (14-04-4634P). | The Honorable Ron C. Cross, Chairman, Columbia County Board of Commissioners, P.O. Box 498, Evans, GA 30809. | Columbia County Planning Services Division, 603 Ronald Reagan Drive, Building B, 1st Floor, Evans, GA 30809. | March 2, 2015 | 130059
Hawaii: Maui (FEMA Docket No.: B-1460). | Maui County (14-09-2279P). | The Honorable Alan M. Arakawa, Mayor, Maui County, 200 South High Street, 9th Floor, Wailuku, HI 96793. | Maui County Planning Department, 250 South High Street, 2nd Floor, Wailuku, HI 96793. | March 2, 2015 | 150003
Mississippi:
Lafayette (FEMA Docket No.: B-1460). | City of Oxford (14-04-4705P). | The Honorable George Patterson, Mayor, City of Oxford, 107 Courthouse Square, Oxford, MS 38655. | City Hall, 107 Courthouse Square, Oxford, MS 38655. | March 2, 2015 | 280094
Lafayette (FEMA Docket No.: B-1460). | Unincorporated areas of Lafayette County (14-04-4705P). | The Honorable Jeff Busby, President, Lafayette County Board of Supervisors, 300 North Lamar Boulevard, Oxford, MS 38655. | Lafayette County Emergency Management Department, 300 North Lamar Boulevard, Oxford, MS 38655. | March 2, 2015 | 280093
North Carolina:
Brunswick (FEMA Docket No.: B-1464). | Town of St. James (13-04-4667P). | The Honorable Rebecca Dus, Mayor, Town of St. James, 4140 A Southport-Supply Road, St. James, NC 28461. | Town Hall, 4140 A Southport-Supply Road, St. James, NC 28461. | February 27, 2015 | 370530
Brunswick (FEMA Docket No.: B-1464). | Unincorporated areas of Brunswick County (13-04-4667P). | The Honorable Scott Phillips, Chairman, Brunswick County Board of Commissioners, P.O. Box 249, Bolivia, NC 28422. | Brunswick County Building Inspections Department, Building I, 75 Courthouse Drive, Northeast, Bolivia, NC 28422. | February 26, 2015 | 370295
Utah: Washington (FEMA Docket No.: B-1460). | Town of Springdale (14-08-0976P). | The Honorable Stan Smith, Mayor, Town of Springdale, 118 Lion Boulevard, Springdale, UT 84767. | Planning and Zoning Department, 118 Lion Boulevard, Springdale, UT 84767. | February 26, 2015 | 490179

[FR Doc. 2015-11964 Filed 5-15-15; 8:45 am]

BILLING CODE 9110-12-P